DEPARTMENT OF COMMERCE

National Oceanic and Atmospheric Administration

RIN 0648-XF42

Marine Mammals; File No. 1021-1658

AGENCY: National Marine Fisheries Service (NMFS), National Oceanic and Atmospheric Administration (NOAA), Commerce.

ACTION: Notice; issuance of permit amendment.

SUMMARY: Notice is hereby given that Jenifer A. Zeligs-Hurley, Ph.D., Moss Landing Marine Laboratories, 8272 Moss Landing Road, Moss Landing, CA 95039, has been issued a minor amendment to Scientific Research Permit No. 1021-1568, for research on California sea lions (Zalophus californianus) and Pacific harbor seals (Phoca vitulina richardsi) maintained at the Moss Landing Marine Laboratories.

ADDRESSES: The amendment and related documents are available for review upon written request or by appointment in the following office(s):Permits, Conservation and Education Division, Office of Protected Resources, NMFS, 1315 East-West Highway, Room 13705, Silver Spring, MD 20910; phone (301)713-2289; fax (301)427-2521.

FOR FURTHER INFORMATION CONTACT: Amy Sloan or Tammy Adams, (301)713-2289.

SUPPLEMENTARY INFORMATION: The original permit was issued on March 14, 2003 (67 FR 53780), with an expiration date of March 31, 2008. The original permit authorized Dr. Zeligs-Hurley to conduct physiological and veterinary medical studies on California sea lions and harbor seals maintained at Moss Landing Marine Laboratories.

The requested amendment has been granted under the authority of the Marine Mammal Protection Act of 1972, as amended (16 U.S.C. 1361 et seq.), and the regulations governing the taking and importing of marine mammals (50 CFR part 216). The amendment extends the duration of the permit by 12 months beyond that established in the original permit. The amendment also allows studies with captive California sea lions to evaluate whether a mild underwater electric field can deter them from an area when food is present. No other terms or conditions of the permit were changed.

In compliance with the National Environmental Policy Act of 1969 (42 U.S.C. 4321 et seq.), a final determination has been made that the activity proposed is categorically excluded from the requirement to prepare an environmental assessment or environmental impact statement.

Dated: January 28, 2008.
P. Michael Payne,
Chief, Permits, Conservation and Education Division, Office of Protected Resources, National Marine Fisheries Service.

[FR Doc. E8-2056 Filed 2-4-08; 8:45 am]

BILLING CODE 3510-22-S